INTER-AMERICAN FOUNDATION

Sunshine Act Meeting

Time and Date: November 30, 2000, 10 a.m.-3:30 p.m.

Place: 901 N. Stuart Street, Tenth Floor, Arlington, VA 22203.

Status: Open session except for the portion specified as closed session as provided in 22 CFR Part 1004.4(f).

Matters to be Considered:

• Approval of the Minutes of the May 23, 2000, Meeting of the Board of Directors

• Discussion of Fiscal Year 2001 Programs and Operations

• Report on Congressional Activities

• Closed Session To Discuss Personnel Issues. Closed session as provided in 22 CFR Part 1004.4 (f).

Contact Person for More Information: Carolyn Karr, General Counsel, (703) 306-4350.

Dated: November 14, 2000.
Carolyn Karr,
General Counsel.

[FR Doc. 00-29665 Filed 11-15-00; 3:44 pm]

BILLING CODE 7025-01-U